ENVIRONMENTAL PROTECTION AGENCY

[ER-FRL-6635-8]

Environmental Impact Statements and Regulations; Availability of EPA Comments; Availability of EPA comments prepared pursuant to the Environmental Review Process (ERP), under section 309 of the Clean Air Act and section 102(2)(c) of the National Environmental Policy Act as amended

Requests for copies of EPA comments can be directed to the Office of Federal Activities at (202) 564-7167. An explanation of the ratings assigned to draft environmental impact statements (EISs) was published in FR dated April 12, 2002 (67 FR 17992).

Draft EISs

ERP No. D-FHW-E40796-NC Rating EC2, U.S. 64 Corridor Project, Transportation Improvements in the vicinity of the City of Asheboro and Access Improvements to the NC Zoological Park, Funding and U.S. Army COE section 404 Permit Issuance, Randolph County, NC.

Summary: EPA expressed environmental concerns regarding primary impacts as a result of project implementation. These include a large number of residential relocations, with many residences experiencing excessive noise increases and the loss of deciduous forest and surface water habitat. EPA requested that deletion of one or two proposed interchanges be evaluated.

ERP No. D-FHW-F40409-IN Rating LO, IN-25 Transportation Corridor Improvements from I-65 Interchange to U.S. 24, Funding, Right-of-Way and U.S. Army COE section 404 Permit Issuance, Hoosier Heartland Highway, Tippecanoe, Carroll and Cass Counties, IN.

Summary: EPA believes that the proposed project will result in minimum adverse impacts to the environment with the appropriate mitigation. No additional analyses are required.

ERP No. D-FHW-K40253-CA Rating 3, Riverside County Integrated Project, Winchester to Temecula Corridor Construction of a New Multi-Modal Transportation Facility, Route Location and Right-of-Way Preservation, Riverside County, CA.

Summary: EPA found that the DEIS was inadequate to satisfy the requirements of NEPA and lead to the selection of a preferred alignment containing the least environmentally damaging practicable alternative to satisfy section 404 of the Clean Water Act. The DEIS evaluated the two CETAP corridors in isolation of one another and of other major pending highway projects, did not adequately analyze a No Build alternative, and lacked adequate assessment of indirect and cumulative impacts on aquatic and biological resources as well as water and air quality. EPA recommends that these concerns be addressed in a revised DEIS.

ERP No. D-FHW-K40254-CA Rating 3, Riverside County Integrated Project, Hemet to Corona/Lake Elsinore Corridor a New Multi-Modal Transportation Facility, Route Location and Right-of-Way Preservation, Riverside County, CA.

Summary: EPA found that the DEIS was inadequate to satisfy the requirements of NEPA and lead to the selection of a preferred alignment containing the least environmentally damaging practicable alternative to satisfy section 404 of the Clean Water Act. The DEIS evaluated the two CETAP corridors in isolation of one another and of other major pending highway projects, did not adequately analyze a No Build alternative, and lacked adequate assessment of indirect and cumulative impacts on aquatic and biological resources as well as water and air quality. EPA recommends that these concerns be addressed in a revised DEIS.

Final EISs

ERP No. F-BLM-K67054-NV, Phoenix Project, Current Mining Operations and Processing Activities Expansion, Battle Mountain, Plan of Operations Approval, Lander County, NV.

Summary: The final EIS does not address EPA's concern that the long-term post-closure mitigation will not be adequately funded. The environmental acceptability of the project depends on adequate funding of the mitigation plan to prevent degradation of water quality and impacts to biological resources. The final EIS continues to be inadequate since it does not include an itemized cost estimate for the mitigation or assurance that funds will be available in perpetuity to perform the project startup.

ERP No. F-COE-C30011-NJ, New Jersey Shore Protection Study to Determine a Feasible Hurricane and Storm Damage Reduction Plan from Manasquan Inlet to Barnegat Inlet, Boroughs of Point Pleasant Beach, Bay Head, Mantoloking, Lavallette, Seaside Heights and Seaside Park, and Townships of Buck, Dover and Berkeley, NJ.

Summary: EPA continues to have environmental concerns and requests an opportunity to review a complete cumulative impacts and analysis and General Conformity Determination prior to the signing of the Record of Decision for the project.

ERP No. F-FHW-J40149-CO, Colorado Forest Highway 80, Guanella Pass Road (also known as Park County Road 62/Clear Creek County Road 381/Forest Development Road 118) from U.S. 285 in Grant to Georgetown, Improvements, Funding and U.S. Army COE Section 404, NPDES and Special Use Permits Issuance, Park and Clear Creek Counties, CO.

Summary: EPA expressed environmental concerns about wetland impacts and mitigation implementation.

ERP No. F-FHW-K40244-CA, CA-120 Oakdale Expressway Project, Construction and Operation, Post Mile 3.0 to Post Mile R12.9 near Oakdale, Funding, U.S. Army COE Section 404 and NPDES Permits Issuance, Stanislaus County, CA.

Summary: EPA expressed environmental concerns and recommended that FHWA request and obtain EPA's written concurrence on the least environmentally damaging practicable alternative and conceptual mitigation plan prior to the signing of the record of decision (ROD) in accordance with the NEPA/404 Memorandum of Understanding. EPA believes that the FEIS lacks sufficient information on indirect and cumulative impacts and a qualitative PM-10 analysis. In addition, the conceptual mitigation plan presented in the FEIS does not clearly show how it will adequately offset the project's wetland impacts.

ERP No. FS-AFS-E65036-00, Vegetation Management in the Coastal Plain/Piedmont, Proposal to Clarify Direction for Conducting Project-Level Inventories for Biological Evaluations (BEs), U.S. Forest Service Southern Region, AL, GA, FL, SC, NC, LA, MS and TX.

Summary: No formal comment letter was sent to the preparing agency.

ERP No. FS-AFS-E65037-00,Vegetation Management in the Appalachian Mountains, Proposal to Clarify Direction for Conducting Project-Level Inventories for Biological Evaluations (BEs), AL, GA, KY, NC, SC, TN, VA and WV.

Summary: No formal comment letter was sent to the preparing agency.

Dated: December 10, 2002.
Joseph C. Montgomery,
Director, NEPA Compliance Division, Office of Federal Activities.

[FR Doc. 02-31463 Filed 12-12-02; 8:45 am]

BILLING CODE 6560-50-P